DEPARTMENT OF HEALTH AND HUMAN SERVICES

National Institutes of Health

National Cancer Institute; Amended Notice of Meeting

Notice is hereby given of a change in the meeting of the National Cancer Institute Board of Scientific Advisors, March 19, 2024, 01:00 p.m. to March 20, 2024, 05:00 p.m., National Cancer Institute Shady Grove, 9609 Medical Center Drive, Bethesda, MD 20892 which was published in the Federal Register on February 27, 2024, FR Doc 2024-03914, 89 FR 14513.

This meeting notice is being amended to change the National Cancer Institute Board of Scientific Advisors (BSA) Meeting from a two-day meeting to a one-day meeting. The BSA Meeting will now be held on March 20, 2024, from 1:00 p.m. to 4:30 p.m. The BSA Meeting can be accessed from the NIH Videocast at the following link: https://videocast.nih.gov/. The meeting is open to the public.

Dated: March 4, 2024.
Melanie J. Pantoja,
Program Analyst, Office of Federal Advisory Committee Policy.

[FR Doc. 2024-04933 Filed 3-7-24; 8:45 am]

BILLING CODE 4140-01-P